DEPARTMENT OF DEFENSE

Office of the Secretary

U.S. Nuclear Command and Control System Comprehensive Review Advisory Committee

AGENCY: Department of Defense.

ACTION: Closed Meeting Notice.

SUMMARY: Under the provisions of the Federal Advisory Committee Act of 1972 (5 U.S.C., Appendix, as amended), the Government in the Sunshine Act of 1976 (5 U.S.C. paragraph 552b, as amended), and 41 CFR paragraph 102-3.150, the Department of Defense announces the following Federal Advisory Committee meetings of the U.S. Nuclear Command and Control System Comprehensive Review Advisory Committee.

DATES: August 4, 2008 (8:30 a.m.-3:30 p.m.), August 5, 2008 (8:30 a.m.-4:30 p.m.) and August 6, 2008 (8:30 a.m.-4:30 p.m.).

ADDRESSES: August 4: White House; August 5 and 6: Pentagon Conference Center M3.

FOR FURTHER INFORMATION CONTACT: Mr. William L. Jones, (703) 681-8681, U.S. Nuclear Command and Control System Support Staff (NSS), Skyline 3, 5201 Leesburg Pike, Suite 500, Falls Church, Virginia 22041.

SUPPLEMENTARY INFORMATION: Purposes of the Meetings: To provide an overview of Nuclear Command and Control System personnel security and crisis management requirements, nuclear weapons inspection processes, physical security threat assessments and performance measures, and security and vulnerability modeling and assessment tools.

Agenda
Time | Topic | Presenter
August 4, 2008
8:30 a.m. | Administrative Remarks | CAPT Budney, USN (NSS).
9 a.m. | Personnel Reliability Program (PRP) | DoD.
9:30 a.m. | Human Reliability Program (HRP) | NNSA.
10 a.m. | Human Reliability Program | NSA.
10:30 a.m. | Yankee White | WHMO.
10:45 a.m. | Break |
11 a.m. | Nuclear Personnel Expertise issues | ADM (Ret) Chiles.
11:30 a.m. | Lunch |
12:30 p.m. | Crisis Management System (CMS) | WHSR or DISA.
1:30 p.m. | Tour PEOC, WHSR (include capability briefings) | PEOC & WHSR.
3:30 p.m. | Adjourn. |
August 5, 2008
8:30 a.m. | Administrative Remarks | CAPT Budney, USN (NSS).
8:45 a.m. | NUWEX Program | OATSD(NCB)/NM.
9:15 a.m. | DOE Inspection Oversight Processes and Results | NNSA.
9:45 a.m. | Air Force Operational Readiness and Technical Inspection Programs (processes, frequencies, issues) | SAF/IG.
10:15 a.m. | Break |
10:30 a.m. | Navy Operational and Technical Inspection Programs (processes, frequencies, results/trends, issues) | Navy Staff, ComSubFor.
11 a.m. | DoD Nuclear Weapons Technical Inspections (processes, frequencies, results/trends, issues) | DTRA.
11:30 a.m. | Lunch |
12:30 p.m. | Postulated/Design Basis Threat | DOE.
1 p.m. | Nuclear Security Threat Capabilities Assessment | OATSD(NCB)/NM.
1:30 p.m. | Common Nuclear Threat Characterization | ODNI.
2 p.m. | MIGHTY GUARDIAN Series (include MG results and corrective actions, Grand Forks Engineering Study) | AFSPC.
2:30 p.m. | Break |
2:45 p.m. | Matrix Briefing | Mr. Brad Mickelsen.
3:30 p.m. | Exec Session |
4:30 p.m. | Adjourn. |
August 6, 2008
8:30 a.m. | Administrative Remarks | CAPT Budney USN (NSS).
8:45 a.m. | Security Models (JCATS, DANTE) | SNL Rep.
9:30 a.m. | Red Team Brief | DTRA/SRF.
10 a.m. | Break |
10:15 a.m. | Balanced Survivability Assessment Brief | DTRA/SRF.
11 a.m. | DOE Security Roadmap, Modeling and Risk Assessment | NNSA.
11:45 a.m. | Lunch | TBD.
12:30 p.m. | Office of Secure Transport | NNSA.
1 p.m. | DoD Security Roadmap, Modeling and Risk Assessment | ATSD(NCB)/NM.
13 p.m. | AF Action Plan/Security Roadmap | A3Sxx/A7xx.
2:30 p.m. | Navy Action Plan/Security Roadmap | SSPO.
2:45 p.m. | Break |
3 p.m. | Recapture/Recovery (requirements, responsibilities, capabilities, exercises) | ATSD(NCB)/NM NNSA.
|  | FBI.
|  | DHS.
|  | DOS.
4:30 p.m. | Adjourn. |

Pursuant to 5 U.S.C. paragraph 552b, as amended, and 41 CFR paragraph 102-3.155, the Department of Defense has determined that these meetings shall be closed to the public. The Director, U.S. Nuclear Command and Control System Support Staff, in consultation with his General Counsel, has determined in writing that the public interest requires that all sessions of the committee's meetings will be closed to the public because they will be concerned with classified information and matters covered by section 5 U.S.C. paragraph 552b(c)(1).

Committee's Designated Federal Officer: Mr. William L. Jones, (703) 681-8681, U.S. Nuclear Command and Control System Support Staff (NSS), Skyline 3, 5201 Leesburg Pike, Suite 500, Falls Church, Virginia 22041. William.jones@nss.pentagon.mil.

Pursuant to 41 CFR paragraphs 102-3.105(j) and 102-3.140, and section 10(a)(3) of the Federal Advisory Committee Act of 1972, the public or interested organizations may submit written statements at any time to the Nuclear Command and Control System Federal Advisory Committee about its mission and functions. All written statements shall be submitted to the Designated Federal Officer for the Nuclear Command and Control System Federal Advisory Committee. He will ensure that written statements are provided to the membership for their consideration. Written statements may also be submitted in response to the stated agenda of planned committee meetings. Statements submitted in response to this notice must be received by the Designated Federal Official at least five calendar days prior to the meeting which is the subject of this notice. Written statements received after that date may not be provided or considered by the Committee until its next meeting. All submissions provided before that date will be presented to the committee members before the meeting that is subject of this notice. Contact information for the Designated Federal Officer is listed above.

Dated: July 15, 2008.
Patricia L. Toppings,
OSD Federal Register Liaison Officer, Department of Defense.

[FR Doc. E8-16907 Filed 7-22-08; 8:45 am]

BILLING CODE 5001-06-P